DELAWARE RIVER BASIN COMMISSION

Notice of Commission Meeting and Public Hearing

Notice is hereby given that the Delaware River Basin Commission (“Commission”) will hold an informal conference followed by a public hearing on Monday, November 25, 2002. The hearing will be part of the Commission's regular business meeting. Both the conference session and business meeting are open to the public and will be held at the Commission offices at 25 State Police Drive, West Trenton, New Jersey.

The conference among the Commissioners and staff will begin at 10:00 a.m. Topics of discussion include: a status report on the PCB TMDL for the Delaware Estuary; a progress report on development of the Commission's new comprehensive plan; a presentation on the I-MAP Delaware Basin Internet mapping project; and a discussion regarding a resolution to amend the Commission's Comprehensive Plan and Water Code relating to the operation of Lake Wallenpaupack during drought watch, drought warning and drought conditions.

The dockets scheduled for public hearing are as follows:

1. Borough of Collingswood D-89-3 CP RENEWAL. A renewal of a surface water and ground water withdrawal project to supply up to 155 million gallons (mg)/30 days of water to the applicant's distribution system from all wells and Newton Creek. The project is located in Collingswood Borough, Camden County, New Jersey. No increase in the requested allocation is sought.

2. Township of Harrison D-2002-36 CP. An upgrade and expansion project of a 0.4 million gallons per day (mgd) secondary level sewage treatment plant (STP) to provide advanced secondary treatment of 0.8 mgd. The STP will continue to serve residential and commercial development in Harrison Township, Gloucester County, New Jersey. The plant is located in Harrison Township off Creek Road about one mile west of State Route 45. A new outfall will be constructed to discharge to the non-tidal portion of Raccoon Creek, a tributary of the Delaware River.

3. Musconetcong Sewerage Authority D-2002-40 CP. A project to expand a 3.81 mgd tertiary STP by adding a 0.5 mgd tertiary treatment plant that will operate in parallel mode. The project is located in Mount Olive Township, Morris County, New Jersey, just north of the Route 206 intersection with Interstate 80. The project will continue to serve Stanhope Borough in Sussex County and Netcong Borough in Morris County, plus portions of Mount Olive Township, Mount Arlington Borough, and Roxbury Township, also within Morris County. The expansion is primarily needed to serve residents of various communities around Lake Hopatcong, where some failing on-lot septic systems need to be phased out of service. A portion of the existing service area is located outside of the Delaware River Basin, in the Raritan River Basin, as documented in Docket No. D-92-80 CP, approved by the Commission on August 4, 1993. STP effluent will continue to be discharged to the Musconetcong River, a tributary of the Delaware River.

4. Little Washington Wastewater Company d/b/a Suburban Wastewater Company D-2002-42. A project to rerate the White Haven STP from 0.34 mgd to 0.45 mgd, while continuing to provide advanced secondary level of treatment via an activated sludge process. The project will continue to serve White Haven Borough and a portion of Dennison Township, both in Luzerne County, Pennsylvania. The project is located in the Borough of White Haven, approximately 300 feet south of Route 940 on the bank of the Lehigh River, to which it will continue to discharge.

In addition to the public hearing items, the Commission will address the following at its 1 p.m. business meeting: Minutes of the August 28, 2002 business meeting; announcements; a report on Basin hydrologic conditions; a report by the executive director; a report by the Commission's general counsel; a resolution concerning the drought emergency declared by the Commission on December 18, 2001; and a resolution to amend the Comprehensive Plan and Water Code relating to the operation of Lake Wallenpaupack during drought watch, drought warning and drought conditions. A hearing on the Lake Wallenpaupack resolution was held on October 16, and the written comment period on that item was held open through November 15.

Draft dockets scheduled for public hearing on November 25, 2002 are posted on the Commission's web site, http://www.drbc.net, where they can be accessed through the Notice of Commission Meeting and Public Hearing. Documents relating to the dockets and other items may be examined at the Commission's offices. Please contact Thomas L. Brand at 609-883-9500 ext. 221 with any docket-related questions.

Persons wishing to testify at this hearing are requested to register in advance with the Commission Secretary at 609-883-9500 ext. 203. Individuals in need of an accommodation as provided for in the Americans With Disabilities Act who wish to attend the hearing should contact the Commission Secretary directly at 609-883-9500 ext. 203 or through the Telecommunications Relay Services (TRS) at 711, to discuss how the Commission may accommodate your needs.

Dated: November 4, 2002.
Pamela M. Bush, Esq.,
Commission Secretary.

[FR Doc. 02-28460 Filed 11-7-02; 8:45 am]

BILLING CODE 6360-01-P